DEPARTMENT OF ENERGY

Federal Energy Regulatory Commission

[Docket No. CP23-492-000]

Florida Gas Transmission Company, LLC; Notice of Schedule for the Preparation of an Environmental Assessment for the South Louisiana Project

On June 2, 2023, Florida Gas Transmission Company, LLC (FGT) filed an application in Docket No. CP23-492-000 requesting a Certificate of Public Convenience and Necessity pursuant to Section 7(c) of the Natural Gas Act to construct and operate certain natural gas pipeline facilities. The proposed project is known as the South Louisiana Project (Project) and would provide 100 billion British thermal units per day of additional natural gas firm transportation capacity to Florida Power & Light Company. The Project would expand Florida Power & Light Company's flow path back into FGT's Zone 2 pool and provide gas to downstream customers, which includes power generation and local distribution companies.

On June 12, 2023, the Federal Energy Regulatory Commission (Commission or FERC) issued its Notice of Application for the Project. Among other things, that notice alerted agencies issuing Federal authorizations of the requirement to complete all necessary reviews and to reach a final decision on a request for a Federal authorization within 90 days of the date of issuance of the Commission staff's environmental document for the Project.

This notice identifies Commission staff's intention to prepare an environmental assessment (EA) for the Project and the planned schedule for the completion of the environmental review.¹

¹ 40 CFR 1501.10 (2020).

Schedule for Environmental Review

Issuance of EA December 15, 2023

90-day Federal Authorization Decision Deadline ² March 14, 2024

² The Commission's deadline applies to the decisions of other Federal agencies, and State agencies acting under federally delegated authority, that are responsible for Federal authorizations, permits, and other approvals necessary for proposed projects under the Natural Gas Act. Per 18 CFR 157.22(a), the Commission's deadline for other agency's decisions applies unless a schedule is otherwise established by Federal law.

If a schedule change becomes necessary, additional notice will be provided so that the relevant agencies are kept informed of the Project's progress.

Project Description

FGT proposes to increase its certificated capacity and throughput at certain compressor stations, and construct, modify, install, own, operate, and maintain certain compression and auxiliary facilities in Louisiana and Mississippi.

The South Louisiana Project would consist of the following facilities at existing compressor stations:

• Compressor Station 7.5, St. Landry Parish, Louisiana—Uprate two existing natural gas-fired compressor turbines (Units 7501 and 7502) from 6,500 horsepower (hp) to 7,700 hp, for an overall certificated compressor station increase of 2,400 hp.

• Compressor Station 8, East Baton Rouge, Louisiana—Add process cooling units to support the existing gas compressors. No change to the certificated horsepower is proposed at Compressor Station 8.

• Compressor Station 9, Washington Parish, Louisiana—Install one new 7,700 hp natural gas-fired turbine (Solar Taurus 60) compressor unit.

• Compressor Station 10, Perry County, Mississippi—Install one new 15,900 hp natural gas-fired turbine (Solar Mars 100) compressor unit.

Background

On July 7, 2023, the Commission issued a Notice of Scoping Period Requesting Comments on Environmental Issues for the Proposed South Louisiana Project (Notice of Scoping). The Notice of Scoping was sent to affected landowners; Federal, State, and local government agencies; elected officials; environmental and public interest groups; Native American tribes; other interested parties; and local libraries and newspapers. No comments were filed in response to the Notice of Scoping.

Additional Information

In order to receive notification of the issuance of the EA and to keep track of formal issuances and submittals in specific dockets, the Commission offers a free service called eSubscription. This service provides automatic notification of filings made to subscribed dockets, document summaries, and direct links to the documents. Go to https://www.ferc.gov/ferc-online/overview to register for eSubscription.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Additional information about the Project is available from the Commission's Office of External Affairs at (866) 208-FERC or on the FERC website (www.ferc.gov). Using the “eLibrary” link, select “General Search” from the eLibrary menu, enter the selected date range and “Docket Number” excluding the last three digits (i.e., CP23-492), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: August 10, 2023.
Debbie-Anne A. Reese,
Deputy Secretary.

[FR Doc. 2023-17612 Filed 8-15-23; 8:45 am]

BILLING CODE 6717-01-P